DEPARTMENT OF HOMELAND SECURITY

Coast Guard

33 CFR Part 117

[CGD07-04-124]

RIN 1625-AA09

Drawbridge Operation Regulation; Skidaway Bridge (SR 204), Intracoastal Waterway, Mile 592.9, Savannah, Chatham County, GA

AGENCY: Coast Guard, DHS.

ACTION: Final rule.

SUMMARY: The Coast Guard is changing the operating regulations of the Skidaway Bridge (SR 204) across the Intracoastal Waterway, mile 592.9, in Savannah, Georgia. This rule allows the bridge to open as necessary on the hour from 7 a.m. to 9 a.m. (7, 8, and 9 a.m.) and on the half-hour between 4:30 p.m. to 6.30 p.m. (4:30, 5:30, and 6:30 p.m.), daily; Monday through Friday except Federal holidays. Due to the amount of vehicle traffic and the lack of openings during the requested time period, this action should improve the movement of vehicular traffic while not unreasonably interfering with the movement of vessel traffic. Public vessels of the United States, tugs with tows, and vessels in distress will be passed at any time. At all other times, the draw will open upon signal.

DATES: This rule is effective May 3, 2006.

ADDRESSES: Comments and material received from the public, as well as documents indicated in this preamble as being available in the docket, are part of docket [CGD07-04-124] and are available for inspection or copying at Commander (dpb), Seventh Coast Guard District, 909 SE 1st Avenue, Suite 432, Miami, Florida 33131, between 7:30 a.m. and 4 p.m., Monday through Friday, except Federal holidays. Bridge Branch (dpb), Seventh Coast Guard District, maintains the public docket for this rulemaking.

FOR FURTHER INFORMATION CONTACT: Mr. Gwin Tate, Project Manager, Seventh Coast Guard District, Bridge Branch, (305) 415-6747.

SUPPLEMENTARY INFORMATION:

Regulatory History

On December 3, 2004, we published a notice of proposed rulemaking (NPRM) entitled Drawbridge Operation Regulations; Skidaway Bridge (SR 204), Intracoastal Waterway, Mile 592.9, Savannah, Chatham County, GA. in the Federal Register (69 FR 70209). We received 8 letters commenting on the proposed rule. Due to public comment and the Chatham County Department of Public Works input, this rule was changed to reflect concern regarding opening of the bridge during the morning and evening rush hour periods as discussed below. No public meeting was requested, and none was held.

Background and Purpose

On January 7, 2004, the General Manager of the Landings Association, a residential development with over 8500 residents, contacted the Chatham County Department of Public Works regarding traffic problems caused by the current bridge schedule. Approximately 90% of the Skidaway Island population lives in the Landings Association, all of which must cross the Skidaway Narrows Bridge (SR 204) to leave the gated community. On April 22, 2004, the Department of Public Works, which operates and maintains the bridge, contacted the Coast Guard requesting assistance in changing the schedule to help ease vehicular traffic on overburdened roadways. The operation of the Skidaway Bridge (SR 204), mile 592.9, at Savannah, is governed by 33 CFR 117.5, which requires the bridge to open on signal. Bridge tender logs indicate that the proposed schedule would improve vehicular traffic flow while still meeting the reasonable needs of navigation. During a twelve-month time period, vessel requests for openings remained at or below an average of two per hour.

Discussion of Comments and Changes

The Coast Guard received a total of 8 written comments in response to the NPRM. Five comments were in favor of the proposed rule. One comment based on the NPRM, which gave the impression of no openings during the prescribed time period, recommended that the schedule be altered slightly, opening every half hour during the prescribed time period. This concern has been addressed in the final rule. The bridge will open as necessary on the hour in the prescribed morning period (7, 8 and 9 a.m.) and on the half-hour during the prescribed evening period (4:30, 5:30, and 6:30 p.m.).

Also in reference to the above comment, Chatham County's Department of Public Works letter dated April 22, 2004, failed to include language indicating their intent for the bridge to open on the hour during the morning schedule, and on the half hour during the evening schedule. This schedule change reaches a compromise between the suggested half hour openings and no openings at all during the time periods in question, thereby creating less inconvenience to vessel owners and giving advance notice to vehicle operators when the bridge will be in the open to vessel traffic position.

Another comment recommended that the bridge adopt a half hour schedule between 9 a.m. and 4:30 p.m. during the prescribed time period. However, traffic counts indicate a small number of openings during this time period. Scheduled openings during this period would not appreciably help ease vehicular traffic on overburdened roadways since most residents have already departed the gated Landings Association community for their workplace.

The final comment was unable to determine why a change in the current operating schedule was needed if there were minimal openings during the requested time period. Though there was a lack of significant openings during the period, putting the bridge on a schedule will let vehicle owners know when to expect the bridge to open. This will allow them to plan their commute accordingly and lessen the amount of vehicles waiting at the bridge. Additionally, the test deviation study period disclosed that the Skidaway Bridge opened less than three times hourly during the periods concerned, but that closing the bridge completely during this period would unnecessarily restrict vessel traffic.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this rule to be so minimal on vessel traffic that a full Regulatory Evaluation is unnecessary. The rule affects vessel traffic through this bridge only in that vessels will need to time their passage through this bridge during a very limited time period. The increase in vehicular traffic crossing this bridge is now in excess of 9000 vehicles per day. This rule will have a positive economic impact on vehicular traffic due to a decrease in bridge openings during the affected time periods.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

For the reasons outlined above, the Coast Guard certifies under 5 U.S.C. 605(b) that this rule will not have a significant economic impact on a substantial number of small entities.

Assistance for Small Entities

Under section 213(a) of the Small Business Regulatory Enforcement Fairness Act of 1996 (Pub. L. 104-121), we offered to assist small entities in understanding the rule so that they could better evaluate its effects on them and participate in the rulemaking process. The Coast Guard offered small businesses, organizations, or governmental jurisdictions that believed the rule would affect them or that had questions concerning its provisions or options for compliance, to contact the person listed in FOR FURTHER INFORMATION CONTACT.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not create an environmental risk to health or risk to safety that might disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD, which guides the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraph (32)(e) of the Instruction, from further environmental documentation. Under figure 2-1, paragraph (32)(e), of the Instruction, an “Environmental Analysis Check List” and a “Categorical Exclusion Determination” are not required for this rule.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1(g); Department of Homeland Security Delegation No. 0170.1; section 117.255 also issued under the authority of Pub. L. 102-587, 106 Stat. 5039.

2. In § 117.353, paragraph (c) is revised to read as follows:

§ 117.353 Atlantic Intracoastal Waterway, Savannah River to St. Mary's River.

* * * * *

(c) Skidaway Bridge, SR 204, mile 592.9 near Savannah. The draw will open as necessary on the hour from 7 a.m. to 9 a.m. (7, 8, and 9 a.m.) and on the half-hour between 4:30 p.m. to 6.30 p.m. (4:30, 5:30, and 6:30 p.m.), daily; Monday through Friday except Federal holidays. The draw shall open at any time for Public vessels of the United States, tugs with tows, and vessels in distress. At all other times, the draw will open on signal.

Dated: March 15, 2006.
D.B. Peterman,
RADM, U.S. Coast Guard, Commander, Seventh Coast Guard District.

[FR Doc. 06-3172 Filed 3-31-06; 8:45 am]

BILLING CODE 4910-15-P